ENVIRONMENTAL PROTECTION AGENCY

40 CFR Part 721

[EPA-HQ-OPPT-2017-0464; FRL-10001-43]

RIN 2070-AB27

Significant New Use Rules on Certain Chemical Substances (17-3); Technical Correction

AGENCY: Environmental Protection Agency (EPA).

ACTION: Final rule; technical correction.

SUMMARY: EPA issued a final rule in the Federal Register of September 18, 2019 for 19 chemical substances that were the subject of premanufacture notices (PMNs). For the chemical substance that was the subject of PMN P-17-170, EPA made several errors when including hazard communication requirements. Certain references are inconsistent with the hazards identified for this chemical substance by EPA. This document is being issued to correct these errors.

DATES: This technical correction is effective on November 19, 2019.

ADDRESSES: The docket for this action, identified by docket identification (ID) number EPA-HQ-OPPT-2017-0464, is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

FOR FURTHER INFORMATION CONTACT:

For technical information contact: Kenneth Moss, Chemical Control Division, Office of Pollution Prevention and Toxics, Environmental Protection Agency, 1200 Pennsylvania Ave. NW, Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION:

I. What does this technical correction do?

EPA issued a final rule in the Federal Register of September 18, 2019 (84 FR 49025) (FRL-9998-12) for significant new uses for 19 chemical substances that were the subject of PMN notices. EPA made several errors when specifying hazard communication requirements for the chemical substance listed in the significant new use rule (SNUR) codified in 40 CFR 721.11107 (PMN P-17-170). This action corrects these errors as follows:

• In 40 CFR 721.11107—Alkanediol, 2,2-bis (substituted alkyl)-polymer with substituted alkane, heteromonocycles, alkenoate (generic); the hazard communication requirements in paragraph (a)(2)(ii) of the SNUR will be corrected to remove the reference to 40 CFR 721.72(g)(1)(v) and instead reference 40 CFR 721.72(g)(1)(iv). It will also be corrected to remove the reference to 40 CFR 721.72(g)(4).

II. Why is this correction issued as a final rule?

Section 553 of the Administrative Procedure Act (APA) (5 U.S.C. 553(b)(3)(B)) provides that, when an Agency for good cause finds that notice and public procedure are impracticable, unnecessary or contrary to the public interest, the Agency may issue a final rule without providing notice and an opportunity for public comment. EPA has determined that there is good cause for making this technical correction final without prior proposal and opportunity for comment. Correcting the hazard communication requirements specified in the September 18, 2019 SNUR is necessary for the proper identification of the human health and environmental hazards associated with PMN substance P-17-170 consistent with the associated TSCA section 5(e) Order for the substance. EPA finds that this constitutes good cause under 5 U.S.C. 553(b)(3)(B).

III. Do any of the statutory and Executive Order reviews apply to this action?

No. For a detailed discussion concerning the statutory and Executive Order review, refer to Unit XII. of the September 18, 2019 final rule.

IV. Congressional Review Act (CRA)

Pursuant to the CRA (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 721

Environmental protection, Chemicals, Hazardous substances, Reporting and recordkeeping requirements.

Dated: November 5, 2019.
Tala Henry,
Deputy Director, Office of Pollution Prevention and Toxics.

Therefore, 40 CFR part 721 is corrected as follows:

PART 721—[AMENDED]

1. The authority citation for part 721 continues to read as follows:

Authority: 15 U.S.C. 2604, 2607, and 2625(c).

2. In § 721.11107, revise paragraph (a)(2)(ii) to read as follows:

§ 721.11107 Alkanediol, 2,2-bis (substituted alkyl)-polymer with substituted alkane, heteromonocycles, alkenoate (generic).

(a) * * *

(2) * * *

(ii) Hazard communication. Requirements as specified in § 721.72(a) through (e) (concentration set 0.1 percent), (f), (g)(1)(i), (ii), (iv), (vii), (ix), (respiratory sensitization), (g)(2)(i), (v), and (g)(5). Alternative hazard and warning statements that meet the criteria of the Globally Harmonized System and OSHA Hazard Communication Standard may be used.

* * * * *

[FR Doc. 2019-24945 Filed 11-18-19; 8:45 am]

BILLING CODE 6560-50-P